DEPARTMENT OF COMMERCE

U.S. Census Bureau

Proposed Information Collection; Comment Request; 2012 Economic Census Covering the Mining Sector

AGENCY: U.S. Census Bureau.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before May 16, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument(s) and instructions should be directed to Julius Smith, Jr., U.S. Census Bureau, Manufacturing and Construction Division, Room 7K055, 4600 Silver Hill Road, Washington, DC 20233, telephone (301) 763-7662, (or via the Internet at julius.smith.jr@census.gov).

SUPPLEMENTARY INFORMATION:

I. Abstract

The Census Bureau is the preeminent collector and provider of timely, relevant and quality data about the people and economy of the United States. Economic data are the Census Bureau's primary program commitment during non-decennial census years. The economic census, conducted under authority of Title 13, United States Code, is the primary source of facts about the structure and functioning of the Nation's economy and features unique industry and geographic detail. Economic census statistics serve as part of the framework for the national accounts and provide essential information for government, business and the general public. The 2012 Economic Census covering the Mining Sector (as defined by the North American Industry Classification System (NAICS) will measure the economic activity of almost 26,000 mineral establishments.

The information collected from establishments in this sector of the economic census will produce basic statistics for a number of establishments, shipments, payroll, employment, detailed supplies and fuels consumed, depreciable assets, inventories, and capital expenditures. It also will yield a variety of subject statistics, including shipments by product line, type of operation, size of establishments and other industry-specific measures.

Primary strategies for reducing burden in Census Bureau economic data collections are to increase electronic reporting through broader use of computerized self-administered census questionnaires, on-line questionnaires and other electronic data collection.

II. Method of Collection

Establishments included in this collection will be selected from a frame given by the Census Bureau's Business Register. To be eligible for selection, an establishment will be required to satisfy the following conditions: (i) It must be classified in the mining sector; (ii) it must be an active operating establishment of a multi-establishment firm (including operations under exploration and development), or it must be a single-establishment firm with payroll; and (iii) it must be located in one of the 50 states, offshore areas, or the District of Columbia. Mail selection procedures will distinguish the following groups of establishments:

A. Establishments of Multi-Establishment Firms

Selection procedures will assign all active mineral establishments of multi-establishment firms to the mail component of the universe, except for those in industries classified in the Support Activities for Mining subsector. In these selected industries, where activities are not easily attributable to individual locations or establishments, firms will be asked to report their basic data for several establishments at a nation-wide level on a consolidated report form. Approximately seven percent of establishments of multi-establishment firms will not be required to file separate reports because they will be included in consolidated company reports. We estimate that the census mail canvass for 2012 will include approximately 8,000 establishments of multi-establishment firms.

B. Single-Establishment Firms With Payroll

As an initial step in the selection process, we will analyze the universe for mining. The analysis will produce a set of industry-specific payroll cutoffs that we will use to distinguish large versus small single-establishment firms within each industry. This payroll size distinction will affect selection as follows:

1. Large Single-Establishment Firms

Selection procedures will assign large single-establishment firms having annualized payroll (from Federal administrative records) that equals or exceeds the cut off for their industry to the mail component of the universe. We estimate that the census mail canvass for 2012 will include approximately 7,100 firms in this category. These firms will receive a standard form.

2. Small Single-Establishment Firms

Small single-establishment firms in the crushed stone, sand and gravel, and crude petroleum and natural gas industries, where application of the cutoff for non-mail establishments results in a larger number of small establishments included in the mail canvass, will receive a short form. The short form will collect basic statistics and other essential information that is not available from administrative records.

The short form will be mailed to approximately 1,200 single-establishment firms in these industries which are larger than the non-mail cutoff for their industry, but which have an annual payroll under a certain criteria.

The approximately 9,600 remaining single-establishment firms with payroll will be represented in the census by data from Federal administrative records.

III. Data

OMB Control Number: 0607-0939.

Form Number: The forms used to collect information from businesses in this sector of the economic census are tailored to specific business practices and are too numerous to list separately in this notice. You can obtain information on the proposed content at this Web site: http://www.census.gov/mcd/clearance/census.

Type of Review: Regular submission.

Affected Public: Business or Other for Profit, Not-for-Profit institutions, and Small Businesses or Organizations.

Estimated Number of Respondents:

Standard Form—15,100.

Short Form—1,200.

Total—16,300.

Estimated Time per Response:

Standard Form—5.1 hours.

Short Form—2.5 hours.

Estimated Total Annual Burden Hours: 80,010.

Estimated Total Annual Cost: $2,593,924.

Respondents Obligation: Mandatory.

Legal Authority: Title 13, United States Code, Sections 131 and 224.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 14, 2011.
Glenna Mickelson,
Management Analyst, Office of the Chief Information Officer.

[FR Doc. 2011-6207 Filed 3-16-11; 8:45 am]

BILLING CODE 3510-07-P